DEPARTMENT OF HEALTH AND HUMAN SERVICES

Centers for Disease Control and Prevention

[30Day-17-17KB]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on January 17, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Assessment of the Market for Electronic Technology for Underground Coal Mining Safety and Health Applications—New—Centers for Disease Control and Prevention (CDC), National Institute for Occupational Safety and Health, Office of Mine Safety and Health Research.

Background and Brief Description

Underground coal mining in the U.S. is a relatively small industry (about 46,000 employees) that operates in a unique and hazardous work environment. The common presence of explosive gasses and other hazards creates special safety requirements for equipment, including safety and health protection technologies, used in underground coal mines.

The MINER Act of 2006 assigned the National Institute for Occupational Safety and Health (NIOSH) the responsibility to enhance development of new mine safety and health protection technology and technological applications and to expedite the commercial availability and implementation of such technology. As part of this study, NIOSH seeks to identify the barriers to commercial availability and implementation of such technology in U.S. mines.

Experience to date has shown that there are many issues that the U.S. mining industry faces that create barriers to the availability and implementation of safety technologies, and we believe there are other more subtle reasons that we do not fully understand as a Government research agency. The data will help provide insight into what the most important barriers are from the perspective of the organizations that must purchase, use, approve, and manufacture these safety technologies.

NIOSH has an understanding of some of these barriers, however, NIOSH is not an end user of these products. Thus, the goal of the study is to provide a complete perspective of the barriers from the point of view of the mine operators and technology innovators, in order to improve the efficacy of the contract and grant awards that NIOSH administers under the authority of the MINER Act.

The Federal Mine Safety & Health Act of 1977, Section 501 authorizes the collection of this data. A CDC contractor will collect the required data.

NIOSH will identify 200 stakeholder organizations for structured interviews and a workshop. Stakeholder organizations include those parties involved in the development, supply, use, and regulation of safety and health protection technologies relevant to underground coal mining. Because there is no nationally representative database of these stakeholder organizations, NIOSH will use web searches of supplier and mining company Web sites, online mining publications, trade association member directories, federal and state regulator Web sites, and university mining research and development programs to compile a list of 200 organizations. Representatives of NIOSH Office of Mining Safety and Health Research will also augment the search with their input.

From the 200 stakeholder organizations, 150 representatives will participate in structured interviews. CDC expects that a pre-call to each organization will require 15 minutes to complete and the structured interview will require 60 minutes to complete, including the time it may take respondents to look-up and retrieve needed information.

In addition, 30 stakeholder representatives will participate in the workshop. The burden table below reflects 15 hours of burden for each workshop group. This includes the in-person participation of 9 hours and 6 hours of travel time. A total of 10 respondents per year will participate in the workshop. The estimated annualized burden hours for the respondents' time to participate in this information collection are 217 hours.

CDC seeks a three-year OMB approval to collect information.

Estimated Annualized Burden Hours
Type of respondent | Form name | Number of respondents | Number of responses per respondent | Average burden per response (hours)
Receptionists | Pre-call | 67 | 1 | 15/60
General and Operations Managers | Structured Interview | 25 | 1 | 1
Industrial Production Managers | Structured Interview | 13 | 1 | 1
Architecture and Engineering Occupations | Structured Interview | 12 | 1 | 1
General and Operations Managers | Workshop | 5 | 1 | 15
Industrial Production Managers | Workshop | 3 | 1 | 15
Architecture and Engineering Occupations | Workshop | 2 | 1 | 15

Leroy A. Richardson,
Chief, Information Collection Review Office, Office of Scientific Integrity, Office of the Associate Director for Science, Office of the Director, Centers for Disease Control and Prevention.

[FR Doc. 2017-21188 Filed 10-2-17; 8:45 am]

BILLING CODE 4163-18-P